DEPARTMENT OF TRANSPORTATION

Federal Aviation Administration

Public Notice for a Change in Use of Aeronautical Property at Knox County Regional Airport, Rockland, ME

AGENCY: Federal Aviation Administration (FAA), DOT.

ACTION: Request for public comments.

SUMMARY: The FAA is requesting public comment on the Knox County, Maine request to change a portion (4.8 acres) of Airport property from aeronautical use to non-aeronautical use. The property is located at the intersection of Ash Point and Dublin Roads in Owls Head, Maine. The land is vacant and serves to protect the part 77 surfaces to Runway 31. The land will be leased to the Town of Owls Head, Maine for use as a cemetery. The property was acquired under FAA Project Numbers FAAP 9-17-017-C902 and AIP 3-23-0042-07.

The disposition of proceeds from the lease of airport property will be in accordance with FAA's Policy and Procedures Concerning the Use of Airport Revenue, published in the Federal Register on February 16, 1999.

DATES: Comments must be received on or before August 30, 2004.

ADDRESSES: Documents are available for review by appointment by contacting Mr. Jeffrey Northgraves, Airport Manager at Knox County Regional Airport, Owls Head, Maine, Telephone 207-594-4131 and by contacting Donna R. Witte, Federal Aviation Administration, 16 New England Executive Park, Burlington, Massachusetts, telephone 781-238-7624.

SUPPLEMENTARY INFORMATION: Section 125 of The Wendell H. Ford Aviation Investment and Reform Act for the 21st Century (AIR 21) requires the FAA to provide an opportunity for public notice and comment to the “waiver” or “modification” of a sponsor's Federal obligation to use certain airport property for aeronautical purposes.

Dated: Issued in Burlington, Massachusetts on July 21, 2004.
Vincent A. Scarano,
Manager, Airports Division, New England Region.

[FR Doc. 04-17405 Filed 7-29-04; 8:45 am]

BILLING CODE 4910-13-M